NUCLEAR REGULATORY COMMISSION

[Docket No. 40-8903-LA; ASLBP No. 23-980-03-LA-BD01]

Order; (Providing Notice of Hearing)

AGENCY: Atomic Safety and Licensing Board, Nuclear Regulatory Commission.

This proceeding concerns the Nuclear Regulatory Commission (NRC) Staff's August 15, 2023 denial of Homestake Mining Company of California's (HMC) December 10, 2020, license amendment application to make changes to the monitoring station configuration at HMC's Grants, New Mexico reclamation project site.¹ On September 5, 2023, HMC filed a hearing demand challenging the denial of its license amendment application.² On September 20, 2023, the Board held a status conference with the parties to discuss matters relating to this 10 CFR part 2, subpart L proceeding.³ At this status conference, the NRC Staff indicated that it did not oppose HMC's hearing demand.⁴ Thus, on September 25, 2023, the Board granted HMC's hearing demand.⁵

¹ See Letter from Jane Marshall, Division Director, Office of Nuclear Material Safety and Safeguards, NRC, to Brad R. Bingham, Closure Manager, HMC (Aug. 15, 2023) (ADAMS Accession No. ML23186A150); Letter from Brad. R. Bingham, Closure Manager, HMC, to NRC Document Control Desk (Dec. 18, 2020) (ADAMS Accession No. ML20356A288).

² See [HMC]'s Demand for Hearing on the NRC Staff's Denial of the License Amendment Request to Change the Background Monitoring Location for Radon and Ambient Gamma Radiation for Source Materials License No. SUA-1471 (Sept. 5, 2023).

³ See Tr. at 3.

⁴ See id. at 4-5.

⁵ See Licensing Board Order (Granting Hearing Demand; Deferring Scheduling Conference) (Sept. 25, 2023) (unpublished).

In light of the foregoing, a hearing will be conducted in this proceeding at a date to be determined. The hearing will be governed by the informal hearing procedures set forth in 10 CFR part 2, subparts C and L, 10 CFR 2.300-2.390, 2.1200-2.1213.

It is so ordered.

For the Atomic Safety and Licensing Board.
Dated: September 26, 2023.
Rockville, Maryland.
Michael M. Gibson,
Chair, Administrative Judge.

[FR Doc. 2023-21577 Filed 9-29-23; 8:45 am]

BILLING CODE 7590-01-P